NUCLEAR REGULATORY COMMISSION

Advisory Committee on Nuclear Waste; Notice of Meeting

The Advisory Committee on Nuclear Waste (ACNW) will hold its 132nd meeting on February 7-8, 2002, at 11545 Rockville Pike, Rockville, Maryland, Room T-2B1.

The entire meeting will be open to public attendance.

The schedule for this meeting is as follows:

Thursday, February 7, 2002

A. 8:30-9:40 A.M.: Opening Statement/Planning and Procedures (Open)—The Chairman will open the meeting with brief opening remarks. The Committee will then review items under consideration at this meeting and consider topics proposed for future ACNW meetings.

B. 10-12 Noon: Meeting with the EDO and the Office Directors of NRR, NMSS, and RES (Open)—The Committee will hold discussions with the NRC Executive Director for Operations (EDO), and Directors of the Office of Nuclear Reactor Regulation (NRR), Office of Nuclear Regulatory Research (RES), and Office of Nuclear Material Safety and Safeguards (NMSS) on items of mutual interest. Members of the ACRS will participate in this discussion.

C. 1-2 P.M.: Update on Igneous Activity including PA Analyses (Open)—The staff will provide an update on the igneous activity KTI, including the related PA analyses.

D. 2-6 P.M.: Preparation for Meeting with the NRC Commissioners (Open)—The next meeting with the NRC Commissioners is scheduled to be held in the Commissioners' Conference Room, One White Flint North on March 20, 2002. The Committee will review its proposed presentations.

Friday, February 8, 2002

E. 8:30-8:35 A.M.: Opening Remarks by the ACNW Chairman (Open)—The ACNW Chairman will make opening remarks regarding the conduct of the meeting.

F. 8:35-10:15 A.M.: Annual Research Report to the Commission (Open)—The Committee will discuss its annual report to the Commission on waste-related research.

G. 10:30-12 Noon: Preparation of ACNW Reports (Open)—The Committee will discuss proposed reports on the following topics:

• Proposed Amendment to 10 CFR Part 63

• Update on Igneous Activity including PA Analyses

• Annual Research Report to the Commission

• Key Technical Issue Status (tentative)

H. 1:30-3:30 P.M.: Preparation for Meeting with the Commissioners (Open)—The Committee will continue its discussion of preparations noted in item D above.

I. 3:30-5 P.M.: Preparation of ACNW Reports (Open)—The Committee will continue its discussion of proposed ACNW reports.

J. 5-6 P.M.: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 8 A.M. and 4 P.M. EST, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service. Individuals or organizations requesting this service will be responsible for telephone line charges and for providing the equipment and facilities that they use to establish the videoteleconferencing link. The availability of videoteleconferencing services is not guaranteed.

Dated: January 15, 2002.
Andrew L. Bates,
Advisory Committee Management Officer.

[FR Doc. 02-1488 Filed 1-18-02; 8:45 am]

BILLING CODE 7590-01-P